DEPARTMENT OF ENERGY

Office of Energy Efficiency and Renewable Energy

Federal Energy Management Advisory Committee

AGENCY: Department of Energy.

ACTION: Notice of Open Meeting.

SUMMARY: This notice announces an open meeting of the Federal Energy Management Advisory Committee (FEMAC). The Federal Advisory Committee Act (Public Law 92-463, 86 Stat. 770) requires that these meetings be announced in the Federal Register to allow for public participation. Executive Order 13123, “Greening the Government through Efficient Energy Management,” authorized the FEMAC to provide public and private sector input to the Secretary of Energy on achieving new energy efficiency goals for Federal facilities. The U.S. Department of Energy's Office of Federal Energy Management Programs (FEMP) coordinates FEMAC activities.

DATES: Monday, June 4, 2001; 1:30 to 2:30 p.m. and 6 to 7:30 p.m.

ADDRESSES: Hyatt Regency Crown Center, 2345 McGee Street, Kansas City, Missouri 64108.

FOR FURTHER INFORMATION CONTACT: Steven Huff, Designated Federal Officer for the FEMAC, Office of Federal Energy Management Programs, U.S. Department of Energy, 1000 Independence Avenue, SW., Washington, DC 20585; (202) 586-3507; Steven.Huff@ee.doe.gov; http://www.eren.doe.gov/femp/aboutfemp/femac.html.

SUPPLEMENTARY INFORMATION: Purpose of meeting: This FEMAC meeting is an open forum for communicating with FEMAC members and Federal Energy Management Program officials. FEMAC committee members are Beth Shearer, FEMAC Chair, U.S. Department of Energy; Stuart Berjansky, Philips Lighting Company; Jared Blum, Polyisocyanurate Insulation Manufacturers Association; Kenneth Calvin, Mississippi Department of Economic and Community Development; Robert Collins, Tampa Electric Company/Peoples Gas Company; Richard Earl, PB Facilities, Inc; Shelley Fidler, Van Ness Feldman; Erbin Keith, Sempra Energy Solutions, LLC; Vivian Loftness, Carnegie Mellon University; Mary Palomino, Salt River Project; and Cynthia Vallina, Office of Management & Budget.

Tentative Agenda: Agenda will include an open discussion on the following topics:

Monday, June 4, 2001

• Federal energy management budget

• Energy-savings performance contracts

• Utility energy-efficiency service contracts

• Procurement of ENERGY STAR (Registered Trademark) and other energy efficient products

• Building design

• Process energy use

• Applications of efficient and renewable energy technologies (including clean energy technologies) at Federal facilities

• Other energy management issues and topics

FEMAC members also want to discuss in this discussion setting four critical issues:

• Improving the use of project financing (Energy Saving Performance Contacts and Utility Energy Service Contracts)

• Employing sustainable design in Federal facilities

• Examining budget issues and discussing priorities

• Incorporating the use of new and emerging technologies

Public Participation: For these discussion sessions, FEMAC invites members of the public to help identify possible solutions in achieving the goals of reducing energy use and increasing energy efficiency in Federal facilities.

No advance registration is required for the meeting. Those wishing to address the committee will be heard based on a “first-come, first-served” sign-up list for each session. With the limited time available, the committee also encourages written recommendations, suggestions, position papers, etc., combined with a short oral summary statement.

Documents may be submitted either before or following the meeting. The Chair of the Committee will make every effort to hear the views of all interested parties. The Chair will conduct the meeting to facilitate the orderly conduct of business.

Minutes: The minutes of the meeting will be available for public review and copying within 30 days at the Freedom of Information Public Reading Room; Room 1E-190; Forrestal Building; 1000 Independence Avenue, SW., Washington, DC, between 9 a.m. and 4 p.m., Monday through Friday, except Federal holidays.

Issued at Washington, D.C., on May 4, 2001.
Rachel M. Samuel,
Deputy Advisory Committee Management Officer.

[FR Doc. 01-12184 Filed 5-14-01; 8:45 am]

BILLING CODE 6450-01-P